FARM CREDIT ADMINISTRATION

Farm Credit Administration Board; Amendment to Sunshine Act Meeting

AGENCY: Farm Credit Administration.

SUMMARY: Pursuant to the Government in the Sunshine Act (5 U.S.C. 552b(e)(3)), the Farm Credit Administration gave notice on December 6, 2004 (69 FR 70443) of the regular meeting of the Farm Credit Administration Board (Board) scheduled for December 9, 2004. This notice is to amend the agenda by moving an item from the open to the closed session of that meeting.

FOR FURTHER INFORMATION CONTACT: Jeanette C. Brinkley, Secretary to the Farm Credit Administration Board, (703) 883-4009, TTY (703) 883-4056.

ADDRESSES: Farm Credit Administration, 1501 Farm Credit Drive, McLean, Virginia 22102-5090.

SUPPLEMENTARY INFORMATION: Parts of this meeting of the Board were open to the public (limited space available), and parts were closed to the public. In order to increase the accessibility to Board meetings, persons requiring assistance should make arrangements in advance. The agenda for December 9, 2004, is amended by moving the following item to the closed session as follows:

Closed Session*

• FCS of America Termination Summary.

* Session Closed-Exempt pursuant to 5 U.S.C. 552b(c)(4), (8) and (9).

Dated: December 9, 2004.
Jeanette C. Brinkley,
Secretary, Farm Credit Administration Board.

[FR Doc. 04-27380 Filed 12-9-04; 3:05 pm]

BILLING CODE 6705-01-P